DEPARTMENT OF ENERGY

Federal Energy Regulatory Commission

[Docket No. ER98-1499-003, et al.]

California Independent System Operator Corporation, et al.; Electric Rate and Corporate Regulation Filings

May 15, 2000.

Take notice that the following filings have been made with the Commission:

1. California Independent System Operator Corporation

[Docket No. ER98-1499-003]

Take notice that on May 11, 2000, the California Independent System Operator Corporation, tendered for filing numerous Meter Service Agreements for acceptance by the Commission. The purpose of the filing is to comply with the Commission's Letter Order of February 24, 2000.

The ISO states that this filing has been served on the persons listed on the official service list in Docket Nos. ER98-1499-000, et al. and the California Public Utilities Commission.

Comment date: June 1, 2000, in accordance with Standard Paragraph E at the end of this notice.

2. California Power Exchange Corporation

[Docket No. ER00-1642-001]

Take notice that on May 10, 2000, California Power Exchange Corporation (CalPX), on behalf of its CalPX Trading Services Division (CTS), tendered for filing revised pages of the CTS Rate Schedule FERC No. 1 in compliance with the April 25, 2000 order in this docket. The April 25, 2000 order (1) permitted CTS to add delivery locations and delivery periods on an experimental basis for one year without making a Section 205 filing and (2) required CTS to limit the scope of its filing to ancillary services as opposed to a broader range of services called “energy related products.”

Comment date: May 30, 2000, in accordance with Standard Paragraph E at the end of this notice.

3. New Century Services, Inc.

[Docket No. ER00-2421-000]

Take notice that on May 5, 2000, New Century Services, Inc., on behalf on Cheyenne Light, Fuel and Power Company, Public Service Company of Colorado, and Southwestern Public Service Company (the companies), tendered for filing a service agreement under their Joint Open Access Transmission Service Tariff for Non-Firm Point-to-Point Transmission Service between the Companies and PPL Montana LLC.

Comment date: May 26, 2000, in accordance with Standard Paragraph E at the end of this notice.

4. Entergy Services, Inc.

[Docket No. ER00-2446-000]

Take notice that on May 8, 2000, Entergy Services, Inc., on behalf of Entergy Arkansas, Inc. (Entergy Arkansas), Entergy Louisiana, Inc. (Entergy Louisiana), Entergy Mississippi Inc. (Entergy Mississippi), Entergy New Orleans, Inc. (Entergy New Orleans), tendered for filing nineteen Notices of Cancellation for certain service schedules of affected agreements as well as for the agreements in their entirety. These agreements were established in the following Docket Numbers: OA97-270-000, OA97-327-000, OA97-328-000, OA97-329-000, OA97-331-000, OA97-332-000, OA97-335-000, OA97-336-000, OA97-338-000, OA97-339-000, OA97-340-000, OA97-344-000, OA97-345-000, OA97-349-000, OA97-350-000, OA97-351-000, OA97-354-000, OA97-528-000 and OA97-555-000.

Comment date: May 30, 2000, in accordance with Standard Paragraph E at the end of this notice.

5. Indianapolis Power & Light Company

[Docket No. ER00-2447-000]

Take notice that on May 9, 2000, Indianapolis Power & Light Company tendered for filing a Remote Control Operating Agreement between West Fork Land Development Company, L.L.C., and Indianapolis Power & Light Company in the above-captioned docket.

Copies of this filing were served on West Fork Land Development Company, L.L.C.

Comment date: May 30, 2000, in accordance with Standard Paragraph E at the end of this notice.

6. LSP-Nelson Energy, LLC

[Docket No. ER00-2448-000]

Take notice that on May 9, 2000, LSP-Nelson Energy, LLC (LSP-Nelson) tendered for filing an initial rate schedule and request for certain waivers and authorizations pursuant to Section 35.12 of the regulations of the Federal Energy Regulatory Commission (the Commission). The initial rate schedule provides for the sale to wholesale purchasers at market-based rates of the output of an electric power generation facility to be developed by LSP-Nelson in Nelson Township, Lee County, Illinois (the Facility).

LSP-Nelson requests that the Commission accept the rate schedule for filing, to become effective as of the date that service commences at the Facility.

A copy of the filing was served upon the Illinois Commerce Commission.

Comment date: May 30, 2000, in accordance with Standard Paragraph E at the end of this notice.

7. Ameren Services Company

[Docket No. ER00-2449-000]

Take notice that on May 10, 2000, Ameren Services Company (ASC), tendered for filing an Interconnection Agreement between ASC and Ameren Energy Generating Company (AEGC). ASC asserts that the purpose of the Agreement is to establish terms and conditions under which AEGC must operate its facility in Jasper County, Illinois in parallel with Ameren's transmission system.

Comment date: May 30, 2000, in accordance with Standard Paragraph E at the end of this notice.

8. Ameren Services Company

[Docket No. ER00-2450-000]

Take notice that on May 10, 2000, Ameren Services Company (ASC), tendered for filing an Interconnection Agreement between ASC and Ameren Energy Generating Company (AEGC). ASC asserts that the purpose of the Agreement is to establish terms and conditions under which AEGC must operate its facility in Crawford County, Illinois in parallel with Ameren's transmission system.

Comment date: May 30, 2000, in accordance with Standard Paragraph E at the end of this notice.

9. Ameren Services Company

[Docket No. ER00-2451-000]

Take notice that on May 10, 2000, Ameren Services Company (ASC), tendered for filing an Interconnection Agreement between ASC and Ameren Energy Generating Company (AEGC). ASC asserts that the purpose of the Agreement is to establish terms and conditions under which AEGC must operate its facility in Morgan County, Illinois in parallel with Ameren's transmission system.

Comment date: May 30, 2000, in accordance with Standard Paragraph E at the end of this notice.

10. Ameren Services Company

[Docket No. ER00-2452-000]

Take notice that on May 10, 2000, Ameren Services Company (ASC), tendered for filing an Interconnection Agreement between ASC and Ameren Energy Generating Company (AEGC). ASC asserts that the purpose of the Agreement is to establish terms and conditions under which AEGC must operate its facility in Jackson County, Illinois in parallel with Ameren's transmission system.

Comment date: May 30, 2000, in accordance with Standard Paragraph E at the end of this notice.

11. Ameren Services Company

[Docket No. ER00-2453-000]

Take notice that on May 10, 2000, Ameren Services Company (ASC), tendered for filing an Interconnection Agreement between ASC and Ameren Energy Generating Company (AEGC). ASC asserts that the purpose of the Agreement is to establish terms and conditions under which AEGC must operate its facility in Montgomery County, Illinois in parallel with Ameren's transmission system.

Comment date: May 30, 2000, in accordance with Standard Paragraph E at the end of this notice.

12. Wisconsin Electric Power Company

[Docket No. ER00-2454-000]

Take notice that on May 10, 2000, Wisconsin Electric Power Company (Wisconsin Electric), tendered for filing unexecuted firm Transmission Service Agreements between: (1) Wisconsin Electric and Wisconsin Public Service Corporation (WPSC); and (2) Wisconsin Electric and Madison Gas & Electric Company (MG&E) (MG&E and WPSC are individually referred to as the Transmission Customer). The Transmission Service Agreements provide firm point-to-point transmission service to the Transmission Customer under Wisconsin Energy Corporation Operating Companies' FERC Electric Tariff, Volume No. 1.

Wisconsin Electric requests an effective date coincident with the commercial in-service date of MG&E's M34 generating resource. Wisconsin Electric also requests waiver of the Commission's notice requirements because the in-service date of the M34 generating resource is anticipated to be in early May, 2000. Additionally, Wisconsin Electric has filed a motion to consolidate the above-referenced docket with Docket No. ER00-2158-000.

Copies of the filing have been served on Madison Gas & Electric, Wisconsin Public Service Corporation, the Public Service Commission of Wisconsin, and the Michigan Public Service Commission.

Comment date: May 30, 2000, in accordance with Standard Paragraph E at the end of this notice.

13. New Century Services, Inc.

[Docket No. ER00-2455-000]

Take notice that on May 10, 2000, New Century Services, Inc. (NCS), on behalf of Southwestern Public Service Company (SPS), tendered for filing the Interconnection Agreement between Sunflower Electric Power Corporation (Sunflower) and SPS. NCS states that the primary purpose of the Interconnection Agreement is to set out the terms and conditions governing an interconnection to be constructed between the SPS and Sunflower systems.

Comment date: May 30, 2000, in accordance with Standard Paragraph E at the end of this notice.

14. The Detroit Edison Company

[Docket No. ER00-2456-000]

Take notice that on May 10, 2000, The Detroit Edison Company (Detroit Edison), tendered for filing a Service Agreement for wholesale power sales transactions (the Service Agreements) under Detroit Edison's Wholesale Power Sales Tariff (WPS-2), FERC Electric Tariff No. 3 (the WPS-2 Tariff) between Detroit Edison and Conectiv Energy Supply, Inc.

Comment date: May 30, 2000, in accordance with Standard Paragraph E at the end of this notice.

15. Consumers Energy Company

[Docket No. ER00-2457-000]

Take notice that on May 10, 2000, Consumers Energy Company (Consumers), tendered for filing executed service agreements for unbundled wholesale power service with Coral Power, L.L.C. and British Columbia Power Exchange Corporation pursuant to Consumers' Market Based Power Sales Tariff accepted for filing in Docket No. ER98-4421-000.

Copies of the filing have been served on the Michigan Public Service Commission and the customers under the respective service agreements.

Comment date: May 30, 2000, in accordance with Standard Paragraph E at the end of this notice.

16. Carolina Power & Light Company

[Docket No. ER00-2458-000]

Take notice that on May 10, 2000, Carolina Power & Light Company (CP&L), tendered for filing an executed Power Sales Agreement with Duke Power under the provisions of CP&L's Market-Based Rates Tariff, FERC Electric Tariff No. 4.

CP&L is requesting an effective date of July 1, 2000 for this Agreement.

Copies of the filing were served upon the North Carolina Utilities Commission and the South Carolina Public Service Commission.

Comment date: May 30, 2000, in accordance with Standard Paragraph E at the end of this notice.

17. PPL Utilities

[Docket No. ER00-2459-000]

Take Notice that on May 10, 2000, PPL Electric Utilities Corporation d/b/a PPL Utilities (formerly known as PP&L, Inc.)(PPL), tendered for filing a Service Agreement dated April 26, 2000, with City of Vineland, New Jersey (Vineland) under PPL's Market-Based Rate and Resale of Transmission Rights Tariff, FERC Electric Tariff, Revised Volume No. 5. The Service Agreement adds Vineland as an eligible customer under the Tariff.

PPL requests an effective date of May 10, 2000, for the Service Agreement.

PPL states that copies of this filing have been supplied to Vineland and to the Pennsylvania Public Utility Commission.

Comment date: May 30, 2000, in accordance with Standard Paragraph E at the end of this notice.

18. Niagara Mohawk

[Docket No. ER00-2460-000]

Take notice that on May 10, 2000, Niagara Mohawk, tendered for filing with the Federal Energy Regulatory Commission an executed letter agreement as a supplement to a Transmission Service Agreement between Niagara Mohawk and American Municipal Power-Ohio, Inc., designated as Rate Schedule No. 140. This letter agreement extends the termination date of Rate Schedule No. 140.

Niagara Mohawk has served copies of the filing upon New York Public Service Commission and American Municipal Power-Ohio, Inc.

Comment date: May 30, 2000, in accordance with Standard Paragraph E at the end of this notice.

19. Commonwealth Edison Company and Commonwealth Edison Company of Indiana

[Docket No. ER00-2461-000]

Take notice that on May 10, 2000, Commonwealth Edison Company and Commonwealth Edison Company of Indiana (collectively ComEd), tendered for filing an amendment to ComEd's OATT so as to remove time frames set forth in ComEd's Form of Service Agreement for Short-Term Firm Point-to-Point Transmission Service (Form of Service Agreement) that are inconsistent with the reservation timing requirements adopted by the Commission on February 25, 2000 in its “Open Access Same-Time Information System and Standards of Conduct, Order No. 638,” Docket No. RM95-9-003, FERC Regulations Preambles ¶ 31,093 (Order No. 638). Accordingly, ComEd is amending the Form of Service Agreement to provide that Transmission Customers must confirm accepted requests for service within the reservation timing requirements found in the Business Practice Standards for Open Access Same-Time Information System (OASIS) Transactions document adopted by the Commission. ComEd is also updating the Form of Service Agreement to reflect personnel changes.

ComEd requests an effective date of May 30, 2000 to coincide with the effective date of Order No. 638 and accordingly seeks waiver of the Commission's notice requirements.

Copies of the filing were served upon ComEd's jurisdictional customers and interested state commissions.

Comment date: May 30, 2000, in accordance with Standard Paragraph E at the end of this notice.

20. Cleco Utility Group Inc.

[Docket No. ER00-2462-000]

Take notice that on May 10, 2000, Cleco Utility Group Inc. (Cleco), tendered for filing proposed changes in its Rate Schedule FERC No. 13, which would amend its Electric System Interconnection Agreement with Louisiana Generating LLC.

The proposed rate change amends and adds stated points of delivery under the Electric System Interconnection Agreement between Cleco and Louisiana Generating LLC.

Copies of the filing were served upon the Louisiana Generating LLC and the Louisiana Public Service Commission.

21. Entergy Services, Inc.

[Docket Nos. OA97-337-001, OA97-342-001, OA97-346-001, OA97-348-001, OA97-570-001, OA97-574-001, OA97-614-001, OA97-625-001, OA97-627-001, OA97-632-001 and OA97-646-001]

Take notice that on May 8, 2000, Entergy Services, Inc. filed with the Federal Energy Regulatory Commission (Commission) a compliance report in compliance with the Commission's order in Allegheny Power Service Co., et al., 90 FERC ¶ 61,224 (2000).

Comment date: June 14, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-13007 Filed 5-23-00; 8:45 am]

BILLING CODE 6717-01-P